DEPARTMENT OF HOMELAND SECURITY

U.S. Customs and Border Protection

Agency Information Collection Activities: Application for Overflight Program/Advance Notice for Aircraft Landings

AGENCY: U.S. Customs and Border Protection (CBP), Department of Homeland Security.

ACTION: 60-day notice and request for comments; extension of an existing collection of information: 1651-0087.

SUMMARY: As part of its continuing effort to reduce paperwork and respondent burden, CBP invites the general public and other Federal agencies to comment on an information collection requirement concerning the Application for Overflight Program/Advance Notice for Aircraft Landings. This request for comment is being made pursuant to the Paperwork Reduction Act of 1995 (Pub. L. 104-13; 44 U.S.C. 3505(c)(2)).

DATES: Written comments should be received on or before June 26, 2009, to be assured of consideration.

ADDRESSES: Direct all written comments to the U.S. Customs and Border Protection, Attn.: Tracey Denning, Office of Regulations and Rulings, 799 9th Street, NW., 7th Floor, Washington, DC 20229-1177

FOR FURTHER INFORMATION CONTACT: Requests for additional information should be directed to U.S. Customs and Border Protection, Attn.: Tracey Denning, Office of Regulations and Rulings, 799 9th Street, NW., 7th Floor, Washington, DC 20229-1177, Tel. (202) 325-0265.

SUPPLEMENTARY INFORMATION: CBP invites the general public and other Federal agencies to comment on proposed and/or continuing information collections pursuant to the Paperwork Reduction Act of 1995 (Pub. L. 104-13; 44 U.S.C. 3505(c)(2)). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) the annual costs burden to respondents or record keepers from the collection of information (a total capital/startup costs and operations and maintenance costs). The comments that are submitted will be summarized and included in the CBP request for Office of Management and Budget (OMB) approval. All comments will become a matter of public record. In this document CBP is soliciting comments concerning the following information collection:

Title: Application for Overflight Program/Advance Notice for Aircraft Landings.

OMB Number: 1651-0087.

Form Number: CBP Forms 442 and 442A.

Abstract: CBP Forms 442 and 442A are used by private flyers to obtain a waiver for landing requirements and normal CBP processing at designated airports along the southern border. The CBP regulations also require owners and operators of some commercial aircraft to request CBP permission to land at least 30 days before the first flight date. In addition, there is a requirement for pilots of private aircraft to submit notice of arrival and notice of departure information through Advance Passenger Information System (APIS) manifests no later than sixty (60) minutes prior to departure for flights arriving in to or departing from the United States.

Current Actions: This submission is being made to extend the expiration date.

Type of Review: Extension with change to the burden hours due to better estimates by CBP regarding time per response.

Affected Public: Individuals.

Estimated Number of Respondents: 760, 655.

Estimated Time per Response: 1.1 minutes.

Estimated Total Annual Burden Hours: 13,928.

Dated: April 20, 2009.
Tracey Denning,
Agency Clearance Officer, Customs and Border Protection.

[FR Doc. E9-9569 Filed 4-24-09; 8:45 am]

BILLING CODE 9111-14-P